DEPARTMENT OF COMMERCE

National Oceanic and Atmospheric Administration

[I.D. 072604B]

Fisheries of the Caribbean, Gulf of Mexico, and South Atlantic; Reef Fish Fishery Management Plan for the Reef Fish Resources of the Gulf of Mexico; Red Snapper; Scoping Hearing

AGENCY: National Marine Fisheries Service (NMFS), National Oceanic and Atmospheric Administration (NOAA), Commerce.

ACTION: Notice of scoping hearing; request for comments.

SUMMARY: The Gulf of Mexico Fishery Management Council (Council) announces its 10th hearing on a scoping document to solicit public input on the alternative that should be used for an amendment that will create an individual fishing quota (IFQ) program for the commercial red snapper fishery.

DATES: The meeting will be held on August 31, 2004. See ADDRESSES for location and time.

Public comments on the draft amendment that are received in the Council's office by 5 p.m., September 3, 2004, will be presented to the Council.

ADDRESSES: The 10th scoping hearing will be held from 7 p.m. to 10 p.m. on Tuesday, August 31, 2004, at the Radisson Bay Harbor Hotel, 7700 Courtney Campbell Causeway, Tampa, FL 33607; telephone: 813-281-8900.

Written comments on, and requests for, the scoping document should be addressed to the Gulf of Mexico Fishery Management Council, 3018 U.S. Highway 301, North, Suite 1000, Tampa, FL 33619; telephone: (813) 228-2815. Comments may be sent by e-mail to gulfcouncil@gulfcouncil.org. A copy of the scoping document can also be obtained from the Council's web page: http://www.gulfcouncil.org.

FOR FURTHER INFORMATION CONTACT: Wayne Swingle, Executive Director, Gulf of Mexico Fishery Management Council; telephone: (813) 228-2815.

SUPPLEMENTARY INFORMATION: Please refer to the July 26, 2004 (69 FR 44512) Federal Register notice for additional information. That notice announced the times, dates, and locations of nine scoping hearings; this notice announces the 10th such hearing.

This meeting is physically accessible to people with disabilities. Requests for sign language interpretation or other auxiliary aids should be directed to Dawn Aring at the Council (see ADDRESSES) by August 6, 2004.

Dated: July 27, 2004.
Alan D. Risenhoover,
Acting Director, Office of Sustainable Fisheries, National Marine Fisheries Service.

[FR Doc. 04-17523 Filed 7-30-04; 8:45 am]

BILLING CODE 3510-22-S